DEPARTMENT OF COMMERCE

National Oceanic and Atmospheric Administration

[RTID 0648-XC388]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee. This meeting will be conducted in a hybrid format, with options for both in-person and webinar participation.

DATES: The meetings will be held Tuesday, October 4, 2022 through Thursday, October 6, 2022. For agenda details, see SUPPLEMENTARY INFORMATION.

ADDRESSES:

Council address: The meeting will be held at The Hyatt Place Dewey Beach (1301 Coastal Highway Dewey Beach, DE 19971), telephone: (302) 864-9100.

Webinar registration details will be available on the Council's website at https://www.mafmc.org/briefing/october-2022.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible).

Tuesday, October 4, 2022

Executive Committee—2023 Implementation Plan (Open Session)

Review progress on 2022 Implementation Plan

Review staff recommendations for 2023 actions and deliverables

Public comment opportunity

Approve draft actions and deliverables for further development in 2023 Implementation Plan

Atlantic Surfclam and Ocean Quahog Species Separation Requirements

Approve Draft Amendment for Public Hearings

Review Excessive Shares Amendment Proposed Rule

Action addressing ownership and control of quota share/cage tags in the Surfclam and Ocean Quahog fisheries

Robert's Rules of Order Overview

Colette Collier Trohan, A Great Meeting, Inc.

Wednesday, October 5, 2022

Essential Fish Habitat Amendment (EFH)

Overview of NRHA products and how to apply those to EFH designation development

Consider initiating an Omnibus (All Council Species) Amendment to review and revise EFH designations

NOAA Fisheries Draft Ropeless Roadmap Report

Protected Resources Staff, NOAA Fisheries

Discuss roadmap and provide input on draft

NEFSC Fishery Monitoring and Research Division Update

NOAA's Saltwater Recreational Fisheries Policy

Russell Dunn, NOAA Fisheries

Review and provide feedback on any changes or updates

Private Recreational Tilefish Permitting and Reporting

Receive update on recreational tilefish permitting and reporting

Discuss communication and outreach efforts and identify additional needs

Climate Change Scenario Planning Update

Update on recent activities and final scenarios

Initial Council discussion of applications

Spiny Dogfish 2023 Specifications

Review recommendations from the Advisory Panel, SSC, staff, Committee

Approve 2023 fishing year specifications

Joint Council and SSC Meeting

Presentation of the 2021 Ricks E Savage Award

Thursday, October 6, 2022

Business Session

Committee Reports (SSC, Protected Resources); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: September 12, 2022.
Rey Israel Marquez,
Acting Deputy Director, Office of Sustainable Fisheries, National Marine Fisheries Service.

[FR Doc. 2022-20055 Filed 9-15-22; 8:45 am]

BILLING CODE 3510-22-P